DEPARTMENT OF THE INTERIOR

Fish and Wildlife Service

[Docket No. FWS-R8-NWRS-2023-N003; FXRS12610800000-223-FF08RSDC00]

Final Environmental Impact Statement/Environmental Impact Report for Tijuana Estuary Tidal Restoration Program II Phase I

AGENCY: Fish and Wildlife Service, Interior.

ACTION: Notice of availability; final environmental impact statement/environmental impact report.

SUMMARY: We, the U.S. Fish and Wildlife Service (Service), announce the availability of a final environmental impact statement/environmental impact report (FEIS/EIR) for the Tijuana Estuary Tidal Restoration Program II Phase I project. The FEIS/EIR was prepared jointly by the Service and the California Department of Parks and Recreation to satisfy the requirements of the National Environmental Policy Act (NEPA) and California Environmental Quality Act, respectively. The U.S. Army Corps of Engineers is participating in the NEPA process as a cooperating agency. The FEIS/EIR evaluates the environmental consequences of restoring 82 to 87 acres of native coastal wetlands and uplands within the Tijuana River National Estuarine Research Reserve on portions of both the Tijuana Slough National Wildlife Refuge and Border Field State Park, in San Diego County, California.

DATES: The Service will issue a record of decision no sooner than 30 days after publication of this notice of availability of the FEIS/EIR in the Federal Register.

ADDRESSES: Document Availability: You may view or download the FEIS/EIR by the following methods:

• Internet: https://trnerr.org/about/public-notices/.

• In Person: Subject to any restrictions imposed in response to public health issues, you may view the FEIS/EIR at the following location (call to verify office hours before traveling to the site).

○ Tijuana Estuary Visitor Center, 301 Caspian Way, Imperial Beach, CA 91932 (closed Mondays and Tuesdays); telephone 619-575-3613.

FOR FURTHER INFORMATION CONTACT: Victoria Touchstone, Conservation Planner, at 760-431-9440, extension 273 (phone), or Victoria_Touchstone@fws.gov (email). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Project Location

The project site, which encompasses approximately 90 acres (ac), is located within the southern arm of the Tijuana Estuary, just to the east of the Pacific Ocean, in southwestern San Diego County, California. The project site includes portions of both the Tijuana Slough National Wildlife Refuge and Border Field State Park and is located entirely within the Tijuana River National Estuarine Research Reserve.

Background

The Tijuana Estuary, located in the southwest corner of the United States in San Diego County, California, occurs at the western terminus of the Tijuana River, which drains an approximately 1,700-square-mile watershed, a large portion of which is located within Mexico. Despite recent changes to the upstream watershed, including an increase in the flow of contaminated freshwater inputs and sedimentation, the Tijuana Estuary remains the largest and most intact coastal wetland in the region, supporting habitat for resident and migratory wildlife and native plants, including many sensitive, threatened, and endangered species.

It is estimated that in the 1800s, Tijuana Estuary included over 2,500 ac of estuarine wetland and high marsh. Since then, the estuary has experienced an approximately 50 percent decrease in subtidal and mudflat habitat and a 42 percent decrease in salt marsh. In addition, extensive loss of tidal prism (the volume of water coming and going with the tides) has occurred. This degradation in the southern arm of Tijuana Estuary served as the primary motivation for the initiation of Tijuana Estuary Tidal Restoration Program (TETRP), an extensive restoration proposal developed in the early 1990s.

The TETRP proposal included a multi-phased 495-ac restoration project in the estuary's southern arm, along with a proposed Model Marsh and Oneonta Tidal Linkage project (both of which have been implemented). The final environmental impact statement/environmental impact report (FEIR/EIS) for the original TETRP proposal was completed in 1991. Based on updated research and analysis, the TETRP restoration proposals were refined in 2008 as part of the Tijuana Estuary Friendship Marsh Restoration Feasibility and Design Study. The TETRP II Phase I project, which proposes the restoration of 82 to 87 acres of coastal wetlands and associated native coastal upland vegetation, is the first phase of this 2008 multi-phased restoration project.

National Environmental Policy Act

In compliance with the National Environmental Policy Act (NEPA; 42 U.S.C. 4321 et seq.), the Service has prepared a FEIS/EIR that describes the project setting and restoration planning history for the Tijuana Estuary and analyzes the environmental consequences of each alternative, including the effects of those alternatives when combined with reasonably foreseeable future actions and environmental trends, to determine if significant impacts to the human environment would occur. Three alternatives are analyzed in detail and at an equal level of detail in the FEIS/EIR: two action alternatives and a no action/no project alternative. The primary differences between the two action alternatives are the amount of intertidal mudflat restored versus salt marsh habitat, the total acreage of restored versus preserved habitats, and the number of connections provided to existing tidal channels.

Common features include restoration of predominantly disturbed portions of the southern arm of Tijuana Estuary to tidal wetlands, tidal channel enhancements, and new intertidal channel connections to restored habitat areas and the existing Model Marsh, incorporation of transitional habitat areas into the restoration design, and river mouth excavation, as needed, to ensure continued tidal exchange within the estuary. Additionally, both action alternatives propose the beneficial reuse of suitable excavated material for beach nourishment, development and maintenance of adjacent coastal barrier dunes, and/or restoration of the Nelson Sloan Quarry, located approximately 3 miles to the east within the Tijuana River Valley. Excavated material not suitable for these purposes would be transported off site to the Otay Landfill or another suitable disposal site.

Alternative 1—Alternative 1, which includes 86.8 ac, was designed to maximize deeper intertidal habitats, such as mudflat, and to increase tidal prism in the southern arm of the estuary. A network of intertidal channels would connect with existing tidal channels and the mouth of the Tijuana River. The primary tidal connection would be the existing South Beach Slough, which would be made deeper. A smaller tidal connection would be provided to the existing Old River Slough, where the adjacent vegetated marsh habitat would be preserved. Excavation to restore wetland habitats would generate approximately 585,000 cubic yards (cy) of sediment, with approximately 5,000 cy to be used to establish higher elevation transitional areas within the restoration footprint.

Alternative 2 (Preferred Alternative)—Alternative 2, identified in the FEIS/EIR as the preferred alternative, includes a restoration footprint of approximately 83.6 ac and proposes to restore approximately 82.5 ac of wetland habitats from primarily disturbed upland habitat, while preserving 1.1 ac of transitional and upland habitat within the northern portion of the project site. The restored habitats would generally be located in and around the Model Marsh. A system of tidal channels would be established, with connections to existing tidal channels at three points, including two along the South Beach Slough and one at the Old River Slough. South Beach Slough would be deepened to increase tidal flows into the proposed restoration area, and transition zone habitat would be restored along the southern portion of the restoration area and intermittently around the perimeter of Model Marsh. Excavation would generate approximately 521,000 cy of material, with approximately 7,000 cy to be used on site to establish higher elevation transitional areas. As described for Alternative 1, the remainder of excavated soil would either be beneficially reused for beach nourishment or transported off site for beneficial reuse at other project sites or to the landfill for disposal.

No Action Alternative—Under the No Action Alternative, restoration of the estuary would not be implemented. No removal of soil or vegetation would occur to restore or establish habitat within the project site. New or widened channel connections would not be implemented. Periodic removal of sand from the estuary's river mouth could continue to occur under separate approvals, but activities would be restricted to the river mouth and would not extend into the estuary.

EPA's Role in the EIS Process

Pursuant to the Council on Environmental Quality (CEQ) NEPA Regulations (40 CFR 1506.11), the U.S. Environmental Protection Agency (EPA) shall publish a notice of all EISs in the Federal Register. The EPA published notification of the DEIS/EIR in the Federal Register on August 19, 2022 (87 FR 51090).

Pursuant to section 309 of the Clean Air Act (CAA; 42 U.S.C. 7401 et seq.), NEPA, and the CEQ NEPA Regulations (40 CFR 1503.2), the EPA also reviewed and publicly commented on anticipated environmental impacts described in the DEIS/EIR. The EPA's comments, which are provided in Appendix D of the FEIS/EIR, focused primarily on three topics: (1) the need to develop, in coordination with the Southern California Dredged Material Management Team, additional information about the suitability of excavated sediments for placement at nearby beaches; (2) a request for additional information regarding the ongoing tribal consultation process for the project; and (3) a request for additional information to support the conclusions related to environmental justice. Responses to EPA's specific comments are also provided in Appendix D of the FEIS/EIR, and additional supporting documentation requested by the EPA has been incorporated into the appropriate sections of the FEIS/EIR.

In addition to this notice of availability, the EPA will also publish a notice in the Federal Register announcing the completion of the FEIS. A Record of Decision identifying the alternative selected for implementation will be published no sooner than 30 days after the EPA announces the availability of the FEIS in the Federal Register.

The EPA compiles a repository (EIS database) for EISs prepared by Federal agencies. The EIS database provides information about EISs prepared by Federal agencies, as well as EPA's comments concerning the EISs. You may search for EPA comments on EISs, along with EISs themselves, at https://cdxapps.epa.gov/cdx-enepa-II/public/action/eis/search.

NEPA Compliance

On May 27, 2021, the Service published a notice of intent in the Federal Register (86 FR 28638) to prepare an EIS/EIR for the TETRP II Phase I project. The notice of availability of the draft EIS/EIR for public review and comment was published in the Federal Register on August 19, 2022 (87 FR 51124). A total of six comment letters were received during the public comment period for draft EIS/EIR. Commenters included the EPA, California Department of Fish and Wildlife, County of San Diego, San Diego Audubon Society, and two members of the public. In accordance with 40 CFR 1502.17(b), chapter 8 of the FEIS/EIR includes a summary presenting all alternatives, information, and analyses submitted by State, Tribal, and local governments and other public commenters for consideration by the lead and cooperating agencies in developing the FEIS. The comment letters and responses are provided in Appendix D of the FEIS/EIR. The responses indicate where additional information has been included in the FEIS/EIR in response to the comments received. The FEIS/EIR is available for public viewing (see ADDRESSES).

Authority

We provide this notice in accordance with the requirements of National Environmental Policy Act and its implementing regulations (40 CFR 1503.1 and 1506.6).

Jill Russi,
Acting Regional Director, U.S. Fish and Wildlife Service.

[FR Doc. 2023-06431 Filed 3-30-23; 8:45 am]

BILLING CODE 4333-15-P